DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: ``Pilot Study of Proposed Medical Office Surveys on Patient Safety.'' In accordance with the Paperwork Reduction Act of 1995, Public Law 104-13 (44 U.S.C. 3506(c)(2)(A)), AHRQ invites the public to comment on this proposed information collection.

DATES: Comments on this notice must be received by February 5, 2007.

ADDRESSES: Written comments should be submitted to: Doris Lefkowitz, Reports Clearance Officer, AHRQ, 540 Gaither Road, Room 5036, Rockville, MD 20850. Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

Pilot Study of Proposed Medical Office Surveys on Patient Safety

This activity is an expansion and refinement of AHRQ's Hospital Survey on Patient Safety Culture (HSOPSC) which was developed and released to the public for use in November 2004. Two new surveys are proposed to assess patient safety culture in outpatient medical office settings: One for clinicians (physicians, physician assistants, and nurse practitioners who diagnose, prescribe for, and treat patients) and one for medical office staff (all other non-clinician staff). The proposed new surveys will be based on the HSOPSC but also contain new and revised items as well as dimensions that are more applicable to the outpatient medical office setting. The two proposed surveys will contain some items that are the same and some item that are unique to each survey.

The instruments will be pilot tested with clinicians and staff working in 97 outpatient medical offices. The data collected will be analyzed to determine the psychometric properties of each survey's items and dimensions and provide information for the revision and shortening of the final surveys based on an assessment of their reliability and construct validity. The final surveys will be made publicly available to enable outpatient medical offices to assess patient safety culture from the perspectives of their clinicians and staff. The surveys can be used by outpatient medical offices to identify areas for patient safety culture improvement.

Methods of Collection

A purposive sample of 97 outpatient medical offices will be recruited and selected. These medical offices will represent a distribution of single-specialty offices (of various types) and multi-specialty offices, and will vary by office size (based on number of physicians in the office), as well as geographic region of the United States. Recruited medical offices will be allocated to each category in numbers roughly proportionate to the national distribution of offices in each category.

All clinicians in each medical office will be asked to respond to the clinician survey and all other non-clinician staff will be asked to complete the medical office staff survey. Since not all medical office staff have access to email or the internet, paper surveys will be administered. Standard non-response follow-up techniques such as reminder postcards and distribution of a second survey will be used. Individuals and organizations contacted will be assured of the confidentiality of their replies under Section 924(c) of the Healthcare Research and Quality Act of 1999.

Estimated Annual Respondent Burden

Paper surveys will be distributed to a total of approximately 2,340 individuals from 97 medical offices (about 592 clinicians and 1,748 medical office staff), with a target response rate of 70%, or 1,638 completed surveys (414 completed clinician surveys and 1,224 medical office staff surveys). Respondents should take approximately 15 minutes to complete either survey. Therefore, we estimate that the total respondent burden for completing the survey will be 410 hours (414 completed clinician surveys multiplied by 0.25 hours per survey or 104 hours; and 1,224 completed medical office staff surveys multiplied by 0.25 hours per survey or 306 hours).

Type of respondent | Number of respondents | Number of responses per respondent | Estimated time per respondent (hours) | Estimated total respondent burden hours
Clinicians | 414 | 1 | 0.25 | 104
Medical office staff | 1,224 | 1 | 0.25 | 306
Total | 1,638 |  |  | 410

Estimated Annual Costs to the Federal Government

The total cost to the Government for developing the clinician survey is approximately $257,000, and for the medical office staff survey is approximately $268,000. These estimates include the costs of background literature reviews, survey development, cognitive testing, pilot data collection, data analysis, and preparation of final deliverables and reports.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 21, 2006.
Carolyn M. Clancy,
Director.

[FR Doc. 06-9548 Filed 12-5-06; 8:45 am]

BILLING CODE 4160-90-M